FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 14, 2017.

A. Federal Reserve Bank of Dallas: (Robert L. Triplett III, Senior Vice President) 2200 North Pearl Street, Dallas, Texas 75201-2272:

1. Randall D. Lowery and Melody Lowery, both from Huntington, Texas, individually, and together as a group acting in concert; to acquire shares of Huntington Bancshares, Inc., and thereby indirectly acquire shares of Huntington State Bank, Huntington, Texas, both in Huntington, Texas.

B. Federal Reserve Bank of Richmond: (Adam M. Drimer, Assistant Vice President) 701 East Byrd Street, Richmond, Virginia 23261-4528. Comments can also be sent electronically to or Comments.applications@rich.frb.org:

1. George W. McCall, Cedar Bluff, Virginia, to join a group acting in concert with Haley McLaren, Connor McCall, both of Richmond, Virginia; Lisa Merritt, Asheville, North Carolina; Jack D. Merritt, Jr., Abingdon, Virginia; and George W. McCall, as trustee of the First Sentinel Bank ESOP, Richlands, Virginia; and thereby indirectly retain control of First Region Bancshares, Inc., and First Sentinel Bank, both of Richlands, Virginia.

C. Federal Reserve Bank of Kansas City: (Dennis Denney, Assistant Vice President) 1 Memorial Drive, Kansas City, Missouri 64198-0001:

1. Douglas Briggs and Leigh Briggs, both of Olathe, Kansas; Christina Peters, Jodi Peters Lightfoot, all from Steamboat Springs, Colorado; to join a group and to retain and acquire additional shares of First State Financial Corporation, Overland Park, Kansas, and indirectly The First State Bank and Trust Company of Larned, Larned, Kansas.

Board of Governors of the Federal Reserve System, January 19, 2017.
Yao Chin Chao,
Assistant Secretary of the Board.

[FR Doc. 2017-01670 Filed 1-24-17; 8:45 am]

BILLING CODE 6210-01-P